DEPARTMENT OF AGRICULTURE

Forest Service

Ravalli County Resource Advisory Committee

AGENCY: Forest Service, USDA.

ACTION: Notice of meeting.

SUMMARY: The Ravalli County Resource Advisory Committee will be meeting for presentations on 2006 projects submitted and hold a short public forum (question and answer session). The meeting is being held pursuant to the authorities in the Federal Advisory Committee Act (Pub. L. 92-463) and under the Secure Rural Schools and Community Self-Determination Act of 2000 (Pub. L. 106-393). The meeting is open to the public.

DATES: The meeting will be held on July 25, 2006, 6:30 p.m.

ADDRESSES: The meeting will be held at the Bitterroot National Forest Supervisors Office, 1801 North First, Hamilton, Montana. Send written comments to Daniel G. Ritter, District Ranger, Stevensville Ranger District, 88 Main Street, Stevensville, MT 59870, by facsimile (406) 777-7423, or electronically to dritter@fs.fed.us.

FOR FURTHER INFORMATION CONTACT: Daniel G. Ritter, Stevensville District Ranger and designated Federal Officer, Phone: (406) 777-5461.

Dated: July 13, 2006.
Barry Paulson,
Forest Supervisor.

[FR Doc. 06-6321 Filed 7-18-06; 8:45 am]

BILLING CODE 4310-11-M